ENVIRONMENTAL PROTECTION AGENCY

[EPA-HQ-OAR-2004-0076; FRL-8267-2]

Extension of Period for Objection for the Notice of Data Availability for EGU NOX Annual and NOX Ozone Season Allocations for the Clean Air Interstate Rule Federal Implementation Plan Trading Programs

AGENCY: Environmental Protection Agency (EPA).

ACTION: Notice to extend period for objections.

SUMMARY: EPA is extending the period for submission of objections concerning the Notice of Data Availability (NODA) for EGU NOX Annual and NOX Ozone Season Allocations for the Clean Air Interstate Rule Federal Implementation Plan Trading Programs (CAIR FIP) published on August 4, 2006 for an additional 45 days with regard to cogeneration units combusting biomass (biomass cogeneration units). The period had previously been extended to October 5, 2006 for all objections, and further extended to January 3, 2007 for objections concerning biomass cogeneration units. This notice further extends the period for objections concerning biomass cogeneration units an additional 45 days from January 3 to February 20, 2007. Certain biomass cogeneration unit owners and operators requested the additional time to submit objections because of difficulties in collection of information relating to the application of efficiency standards for cogeneration units (as defined in the CAIR FIP) to biomass cogeneration units. For all other objections, the deadline was October 5, 2006.

DATES: The EPA is establishing a period ending on February 20, 2007 only for objections (including data) related to biomass cogeneration units. Objections must be postmarked by the last day of the period for objection and sent directly to the Docket Office listed in ADDRESSES (in duplicate form if possible).

ADDRESSES: Submit your objections, identified by Docket Number OAR-2004-0076 by one of the following methods:

A. Federal Rulemaking Portal: http://www.regulations.gov. The NODA is not a rulemaking, but you may use the Federal Rulemaking Portal to submit objections to the NODA. To submit objections, follow the on-line instructions for submitting comments.

B. Mail: Air Docket, ATTN: Docket Number OAR-2004-0076, Environmental Protection Agency, Mail Code: 6102T, 1200 Pennsylvania Ave., NW., Washington, DC 20460

C. E-mail: A-AND-R-Docket@epa.gov.

D. Hand Delivery: EPA Docket Center, 1301 Constitution Avenue, NW., Room 3334, Washington, DC. Such deliveries are only accepted during the Docket's normal hours of operation, and special arrangements should be made for deliveries of boxed information.

FOR FURTHER INFORMATION CONTACT: General questions concerning today's action and technical questions concerning heat input or fuel data should be addressed to Brian Fisher, USEPA Headquarters, Ariel Rios Building, 1200 Pennsylvania Ave., Mail Code 6204 J, Washington, DC 20460. Telephone at (202) 343-9633, e-mail at fisher.brian@epa.gov. If mailing by courier, address package to Brian Fisher, 1310 L St., NW., RM #713G, Washington, DC 20005.

SUPPLEMENTARY INFORMATION: Docket: All documents in the docket are listed in the www.regulations.govindex. Although listed in the index, some information is not publicly available, e.g., CBI or other information whose disclosure is restricted by statute. Certain other material, such as copyrighted material, will be publicly available only in hard copy. Publicly available docket materials are available either electronically in http://www.regulations.gov or in hard copy at the EPA Docket Center, EPA West, Room 3334, 1301 Constitution Avenue, NW., Washington, DC. The Public Reading Room is open from 8:30 a.m. to 4:30 p.m, Monday through Friday, excluding legal holidays. The telephone number for the Public Reading Room is (202) 566-1744, and the telephone number for the Air Docket is (202) 566-1742.

Extension of Period for Objections

In the August 4, 2006 NODA (71 FR 44283), EPA provided notice that it had placed in the CAIR FIP docket allocation tables for EGU NOX annual and EGU NOX ozone season allocations for control periods 2009-2014. The allocation tables also included inventories of heat input and inventories of potentially exempt units. In addition, EPA also placed in the docket a Technical Support Document describing the allocation table data fields.

The EPA originally provided a 30-day period for the unit owners, unit operators, and the public to submit objections regarding individual units' treatment as potentially covered or not covered by CAIR and, for units treated as potential CAIR units, the data used in the allocation calculations and the allocations resulting from such calculations. In response to a request from the American Forest and Paper Association, EPA extended the period for all objections an additional 30 days to October 5, 2006.

In requesting an additional extension of the period, certain biomass cogeneration unit owners noted the unique nature of the fuels utilized by biomass cogeneration units and the difficulties encountered in collecting data necessary to apply the efficiency standard to this type of cogeneration unit. In light of these circumstances, the EPA extended the period an additional 90 days only for objections (including data) related to any biomass cogeneration units, and extends it another 45 days in this notice. For all other objections, the deadline was October 5, 2006.

EPA believes the addition of 45 days will provide the Agency more adequate time to receive and evaluate necessary data and, if appropriate, address the concerns raised about application of the efficiency standard to biomass cogeneration units.

Dated: January 3, 2007.
Edward Callahan,
Acting Director, Office of Air and Radiation.

[FR Doc. E7-91 Filed 1-8-07; 8:45 am]

BILLING CODE 6560-50-P